INTERNATIONAL TRADE COMMISSION

[USITC SE-08-019]

Government In the Sunshine Act Meeting Notice

Agency Holding the Meeting: United States International Trade Commission.

Time and Date: July 17, 2008 at 11 a.m.

Place: Room 101, 500 E Street, SW., Washington, DC 20436, Telephone: (202) 205-2000.

Status: Open to the public.

Matters to be Considered: 1. Agenda for future meetings: none

2. Minutes

3. Ratification List

4. Inv. Nos. 701-TA-449 and 731-TA-1118-1120 (Final) (Light-Walled Rectangular Pipe and Tube from China, Korea, and Mexico)—briefing and vote. (The Commission is currently scheduled to transmit its determinations and Commissioners' opinions to the Secretary of Commerce on or before July 28, 2008.)

5. Outstanding action jackets: None.

In accordance with Commission policy, subject matter listed above, not disposed of at the scheduled meeting, may be carried over to the agenda of the following meeting.

By order of the Commission:
Issued: July 9, 2008.
William R. Bishop,
Hearings and Meetings Coordinator.

[FR Doc. E8-16034 Filed 7-14-08; 8:45 am]

BILLING CODE 7020-02-P